FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 012080-002.

Title: HMM/Hanjin Reciprocal Space Charter Agreement.

Parties: Hyundai Merchant Marine Co., Ltd. and Hanjin Shipping Co., Ltd.

Filing Parties: Robert B. Yoshitomi, Esq.; Nixon Peabody LLP; 555 West 5th Street, 46th Floor; Los Angeles, CA 90013-1025 and David F. Smith, Esq.; Cozen O'Connor LLP; 1627 I Street NW.; Suite 1100; Washington, DC 20006-4007.

Synopsis: The amendment adds Korea to the geographic scope of the agreement and removes some historical references to services involved in the agreement.

Agreement No.: 012145.

Title: CKYH/MOL Space Charter and Sailing Agreement.

Parties: Cosco Container Lines Co., Ltd., Kawasaki Kisen Kaisha, Ltd., Yangming (UK) Ltd., Hanjin Shipping Co., Ltd., and Mitsui O.S.K. Lines, Ltd.

Filing Party: Robert B. Yoshitomi, Esquire, Nixon Peabody LLP, 555 West Fifth Street, 46 Floor, Los Angeles, CA 90013.

Synopsis: The agreement authorizes the parties to exchange space in the trade between China, Singapore, Vietnam and the U.S. East coast.

Agreement No.: 012146.

Title: HLAG/HSDG USWC-Mediterranean Vessel Sharing Agreement.

Parties: Hapag-Lloyd AG and Hamburg Sud DG.

Filing Party: Wayne R. Rohde, Esquire, Cozen O'Connor LLP; 1627 I Street NW., Suite 1100; Washington, DC 20006-4007.

Synopsis: The agreement authorizes the parties to share vessel space in the trade between U.S. Pacific ports and ports in Spain, Italy, France, Morocco, Panama, Colombia, the Dominican Republic, Canada, and Mexico.

By Order of the Federal Maritime Commission.
Dated: November 17, 2011.
Karen V. Gregory,
Secretary.

[FR Doc. 2011-30243 Filed 11-22-11; 8:45 am]

BILLING CODE P